DEPARTMENT OF JUSTICE

Office of Juvenile Justice and Delinquency Prevention

[OJP(OJJDP)-1311]

Program Announcement for the Longitudinal Study of Tribal Youth Risk and Resiliency

AGENCY: Office of Justice Programs, Office of Juvenile Justice and Delinquency Prevention, Justice.

ACTION: Notice of solicitation.

SUMMARY: The Office of Juvenile Justice and Delinquency Prevention (OJJDP) is requesting applications for the Longitudinal Study of Tribal Youth Risk and Resiliency. This solicitation is for a 2-year feasibility study that will precede implementation of a longitudinal study of tribal youth development and delinquency. The longitudinal study will examine risk and protective factors within the cultural and historical context of tribal youth. The longitudinal study will provide a unique database for examining the development of delinquency and problem behavior among tribal youth, and findings will highlight the influence of cultural and historical factors on risk for delinquency.

DATES: Applications must be received by June 11, 2001.

ADDRESSES: All application packages should be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the OJJDP Application Kit from the Juvenile Justice Clearinghouse at 800-638-8736. The Application Kit is also available at OJJDP's Web site at www.ojjdp.ncjrs.org/grants/2000_app_kit/index.html. (See “Format” in this program announcement for instructions on application standards.)

FOR FURTHER INFORMATION CONTACT: Phelan Wyrick, Program Manager, Research and Program Development Division, Office of Juvenile Justice and Delinquency Prevention, 202-353-9254. [This is not a toll-free number.]

SUPPLEMENTARY INFORMATION:

Purpose

The purpose of the Longitudinal Study of Tribal Youth Risk and Resiliency is to develop and ultimately implement a longitudinal study of youth development and delinquency that examines risk and protective factors within the unique cultural and historical context of tribal youth. Through special attention to cultural and historical factors, this study will greatly enhance the current understanding of individual, family, community, peer, and school factors that influence delinquency and resiliency among tribal youth. Further, this project will contribute to the development of culturally appropriate research methods with tribal populations. The first 2 years of this work will consist of a feasibility study to plan and prepare for the actual longitudinal study. Based on the outcomes of this feasibility study and the availability of funding, OJJDP anticipates supporting the subsequent longitudinal study for up to 5 additional years.

Authority

The Fiscal Year 2000 Consolidated Appropriations Act, November 17, 1999 (Pub. L. 106-113), authorized the Tribal Youth Program (TYP), providing $12.5 million to OJJDP to support and enhance tribal comprehensive delinquency prevention and control activities and juvenile justice system improvement. Ten percent of the funds appropriated for TYP is set aside to support program-related research, evaluation, and statistics. Of that total, $650,000 is being made available for the 2-year feasibility study of the Longitudinal Study of Tribal Youth Risk and Resiliency.

Background

TYP funds support the joint U.S. Department of Justice (DOJ) and U.S. Department of the Interior (DOI) Indian Country Law Enforcement Initiative. The purpose of the Initiative is to address the compelling need to improve the administration of criminal and juvenile justice among Federally recognized tribes.¹ OJJDP has been charged with sponsoring tribal juvenile justice research, evaluation, and statistics as part of this effort.

¹ Federally recognized Indian tribes include Alaska Native tribal governments. Under current law (Fiscal Year 2000 Consolidated Appropriations Act), the term “Indian tribes,” “tribal,” or “tribe(s)” means: “Any Indian tribe, band, nation or other organized group or community, including Alaska Native village or regional or village corporation as defined in or established pursuant to the Alaska Native Claims Settlement Act * * *, which is recognized as eligible for the special programs and services provided by the United States to Indians because of their status as Indians.”

At the beginning of the 21st century, the tribal population faces myriad challenges. Roughly 30 percent of all tribal members and more than 50 percent of those on reservations live below the poverty level (U.S. Census Bureau, 1993). The median age of American Indians, Eskimos, and Aleuts is estimated to be under 27 years, compared with the median age for all races, estimated at about 35 years (U.S. Census Bureau, 2000). Yet tribal youth have few opportunities for social, educational, or vocational development. Findings from the Bureau of Justice Statistics (BJS) 1999 report American Indians and Crime highlight some of the critical issues facing tribal youth and their families.

• Rates of violent victimization in every age group are higher among American Indians ² than among all other races.

² The BJS report includes Alaska Natives and Aleuts under the term “American Indian.”

• In 1995, American Indians were estimated to have had the highest rate of abuse or neglect of children under age 15 of any racial or ethnic group; and between 1992 and 1995, American Indians had the greatest increase in this rate of any racial or ethnic group.

• American Indians under age 18 are arrested for alcohol-related violations at a rate twice the national average.

These findings only begin to express the difficulties faced by Indian tribes and tribal youth. For example, domestic violence service providers claim that tribal children are victims of sexual assault at levels that are much higher than reported and that many of these assaults are by family members. Further, tribal women report levels of intimate partner violence that are higher than rates for any other ethnic group (Tjaden and Thoennes, 2000). Tribal law enforcement responses to a Federal Bureau of Investigation survey suggest that gangs at varying levels of sophistication are found in virtually all reservations and adjacent service areas. Further, much of the increase in violent crime in these areas over the past decade may be attributable to these gangs (National Alliance of Gang Investigators Associations, 2000). One Michigan tribe's Junior Tribal Council, which is composed of youth who are tribal members, recently listed substance abuse, violence, teen pregnancy, and sexually transmitted diseases among the key issues and concerns of tribal youth. A recent report on justice for tribal youth (Coalition for Juvenile Justice, 2000) draws on the experiences of tribal youth and practitioners to identify substance abuse, depression, and gang involvement as the three major contributors to tribal juvenile delinquency.

Taken together, these reports and research findings paint a picture in which tribal members experience disproportionately high levels of violent victimization, intimate partner violence, child abuse and neglect, youth gang involvement, and the co-occurrence of alcohol use and offending. These difficulties are compounded by a lack of available resources for families, youth, social services, and law enforcement. Youth growing up under these circumstances are exposed to a variety of risk factors that increase their chances of becoming involved in delinquency and violent offending.

It is important to recognize that tribes vary considerably in the extent to which these and other problems occur, and even under difficult circumstances, many tribal youth do not become involved in violent or nonviolent offending. These resilient youth may draw on internal resources; the support of family, friends, and community; and spiritual resources to guide them through difficult childhood and adolescent years. Cultural traditions practiced by some tribes may contribute to this resiliency. For example, tribes that foster close ties with extended family members support a family environment in which youth may have multiple positive adult role models. This is among the most widely acknowledged factors contributing to resiliency.

Understanding of risk and protective factors that are related to the development of juvenile offending has greatly improved in the past decade (Loeber and Farrington, 1998; Hawkins et al., 2000; Thornberry, Huizinga, and Loeber, 1995). Risk factors are generally described as falling into five categories: individual, family, school, peer, and community. The accumulation of risk factors within or across these categories greatly increases the probability that a given youth will offend. Further, some risk factors appear to have greater or lesser influence during different developmental stages of youth (Tatem Kelley et al., 1997; Lipsey and Derzon, 1998).

Protective factors provide a buffering effect against risk factors (Hawkins, Catalano, and Miller, 1992; Thornberry, Huizinga, and Loeber, 1995). Protective factors are somewhat less well understood at this point, but they include individual factors (e.g., high intelligence and positive social orientation), factors related to social bonding (e.g., supportive relationships with family members or other adults), and healthy beliefs and clear standards for behavior (e.g., norms that oppose crime and violence). Since protective factors also tend to have a cumulative effect, youth who are exposed to a large number of protective factors show greater resilience to the risk factors in their lives. Despite advances in understanding risk and protective factors, many important questions still remain to be answered.

Questions remain about the application of risk and protective factors to tribal youth and the effects of distinctive cultural and historical influences on the development of risk and protective factors for delinquency. Longitudinal research on both risk and resiliency among tribal youth is sorely needed. For this research to be most useful, it must be grounded in both the scientific and tribal traditions of understanding delinquency.

Goals

The goal of this feasibility study is to plan and develop the design for an accelerated longitudinal study of tribal youth risk and resiliency. The longitudinal study will enhance and extend the current understanding of individual, family, community, peer, and school factors that influence delinquency and resiliency, with special attention to the distinct cultural and historical context of tribal youth. Findings will have direct implications for prevention activities with at-risk tribal youth and intervention activities with juvenile offenders. A secondary goal of this effort is to contribute to the development of effective and culturally appropriate research approaches with tribal populations.

Objectives

The objectives for the feasibility study include, but are not limited to, the following:

• Prepare a comprehensive literature review of research findings related to risk and resiliency among tribal youth.

• Develop and implement a sampling strategy for selecting tribes that will be invited to participate in the longitudinal study.

• Conduct ongoing negotiations and relations with tribes to engage them in the project, secure community support, and coordinate the development of the study design and measures.

• Develop the overall study design in accordance with state-of-the-art longitudinal social science research and tribal values, traditions, and customs as reflected in the study sites. This design will include strategies for sampling and tracking individual study participants.

• Develop and pilot test instruments and measures in accordance with other prominent longitudinal studies of youth and tribal values, traditions, and customs as reflected in the study sites.

• Conduct a tribal- or community-level analysis that establishes the cultural and historical backdrop for youth and includes examination of the current juvenile justice system in each of the study sites.

Project Strategy

The first 2 years of this project will focus on a feasibility study that will include planning, coordination, and development activities toward the implementation of an accelerated longitudinal study in subsequent years. Based on the outcomes of the first 2 years and the availability of funding, OJJDP anticipates supporting the longitudinal study for up to 5 years beyond the initial feasibility study. OJJDP will continue to serve as the lead agency throughout this project; however, OJJDP will work with the grantee to seek additional public and private funding sources to help support this study beyond the first 2 years.

The study will assume a developmental approach involving successive waves of interviews with multiple cohorts of tribal youth and their family members consistent with an accelerated longitudinal design. Accelerated longitudinal designs collect data from multiple age cohorts simultaneously with the advantage of providing coverage over a larger portion of the life span than if only one cohort were included. For example, if two cohorts were tracked for 5 years beginning at age 5 and age 10, the 5-year study would cover developmental issues encountered over a 10 year span (i.e., at ages 5 through 15). This developmental approach will be linked to a broader tribal- or community-level analysis that will focus on the cultural and historical backdrop for youth in each of the study sites. This analysis must include examination of the current juvenile justice system in each of the study sites.

Many of the activities in the first 2 years can be broken down into the following categories: elaborating the scope and focus of inquiry, developing the sampling strategy, coordinating with tribes, planning for data collection, conducting the site-level analysis, and establishing a project Advisory Group.

Elaborating the Scope and Focus of Inquiry

The social sciences offer multiple theories that may guide inquiry into youth risk and resiliency. Indian tribes also maintain cultural beliefs, values, and theories that suggest explanations of the causes and contributing factors to delinquency and resiliency. This study must be informed by both social science and tribal traditions as they are reflected in the study sites to be selected. First, the feasibility study must include a comprehensive literature review and synthesis of existing research addressing risk and protective factors for tribal delinquency and adult criminal behavior. This review should compare and contrast risk and protective factors as they relate to tribal and nontribal populations. Second, the research team must work with tribal members to elicit and articulate indigenous beliefs and theories about delinquency and resiliency at each of the sites that participate in this project. During the feasibility study, applicants should anticipate working with tribes to gather this information through focus groups, key leader or community member interviews, review of tribal documents and history, or a combination of methods as appropriate. The social science literature review will be integrated with grounded theory from the participating tribes to form the theoretical foundation for the longitudinal study.

Developing the Sampling Strategy

The sampling strategy for this study must address the selection of three federally recognized tribal sites. The design will also have to address the selection of approximately 1,000 individual tribal youth in each site to participate in the successive waves of data collection. No three tribes can possibly constitute a nationally representative sample of all tribes, and the requirement of gaining access to approximately 1,000 youth in each study site will skew the pool of eligible sites toward the larger tribes. With such considerations in mind, applicants will be responsible for presenting a logical and practical framework for a sampling design that will be further developed and implemented during the early phases of the feasibility study. Additional considerations in sampling of sites may include, but are not limited to, regional variations, linguistic variations, size of crime problem, urban versus rural sites, reservation versus nonreservation sites, type of justice system (e.g., Western, tribal, or dual), and logistical concerns such as expense and probability of study completion.

The sampling of individual youth within each site should be consistent with an accelerated longitudinal design as described above. Under this design, multiple tribal youth cohorts will be selected for participation. Applicants should consider including a perinatal cohort (age 0) at the first wave of data collection and including youth ages 5 to 6 years, 10 to 11 years, and 15 to 16 years in the remaining cohorts. The inclusion of a perinatal cohort may introduce the need for alternative measures, such as videotaping of parent-child interactions in the early years, that may cause greater concern to tribes and parents than interview methods. Such issues should be discussed in the project design section of the application and negotiated with the tribes that are selected during the conduct of the feasibility study and the development of the project design.

Coordinating With Tribes

All too frequently, research with tribal populations has been conducted with little regard for local culture and little respect for research participants or tribal sovereignty. This has led to well-founded skepticism among some tribal members towards researchers (see Trimble, 1977; Baldwin, 1999). This study must be conducted in close coordination with the participating tribes. Applicants will have to demonstrate the ability to coordinate effectively with tribes through experience on previous or ongoing projects. Letters of reference from tribal leaders are encouraged. During the 2-year feasibility study, researchers will need to confirm tribal commitment to the project and negotiate strategies for tribal participation. Negotiations should establish procedures for tribal review and comment on study design, data collection methods, data collection instruments, preliminary and final reports, protection of human subjects and of tribal confidentiality, and other issues of concern to the tribes (see Beuvais, 1999). Depending on local circumstances and traditions, obtaining tribal approval and commitment may go beyond working with officials and governing bodies and extend to the inclusion of elders, spiritual leaders, and other community stakeholders. With regard to elected leadership, applicants should anticipate the possibility of midproject changes in administrations and plan for ongoing efforts to maintain tribal support.

During the implementation of this study, it will be necessary for researchers to hire local tribal staff members for activities related to data collection, data management, and administration. Applicants are advised to hire local tribal staff during the feasibility study as well. Gainful employment and skill development among tribal members are possible benefits that tribes may derive from participation in this study. Other possible benefits to the tribes should be discussed in the application and in negotiations with tribes during the feasibility study. Examples of such benefits include improved access to training and technical assistance resources, regular reports on the status of tribal youth in the study sample, and educational and vocational opportunities for students, staff, and faculty at tribal colleges.

Planning for Data Collection

Beyond developing a strategy for sampling individual study participants, the grantee must develop detailed plans for tracking and interviewing youth over successive waves of data collection during the study. Plans must be made for recruiting and training tribal interviewers, transporting interviewers to remote locations, and maintaining the confidentiality and integrity of data as they are collected, coded, and entered into a database. Valuable guidance on such operational aspects of conducting longitudinal studies can be found in Stouthamer-Loeber, van Kammen, and Loeber (1992).

The literature review discussed previously should serve as a starting point for the design of instruments and measures to be used during the study. However, instrument development should be carefully planned to yield culturally appropriate measures that reflect both social science theory and tribal traditions of understanding delinquency and resiliency in the three study sites. This will require extensive coordination with the tribal stakeholders and careful pilot testing of instruments.

Conducting the Site-Level Analysis

It will be necessary to examine community- or tribal-level factors that set the context for delinquency and resiliency in each of the study sites. This analysis will include collection of historical and cultural data of relevance to youth delinquency and resiliency and an examination of the current juvenile justice system in each site. Some of these data will be available through archival sources; however, it will also be necessary to collect oral accounts from elders, community leaders, spiritual leaders, juvenile justice professionals, and tribal youth in the juvenile justice system. This analysis will be conducted during the 2-year feasibility study and the findings should be integrated, where appropriate, into the study design and measures during implementation of the longitudinal study.

Establishing an Advisory Group

An Advisory Group will provide additional oversight and guidance throughout the feasibility study and the subsequent implementation of the longitudinal study. This group should include tribal members with expertise in juvenile justice issues or social science (preferably longitudinal) research.

The Advisory Group should include at least one nationally recognized expert in longitudinal social science research related to juvenile justice. Finally, when the three sites have been selected and confirmed, one tribal leader from each site will be asked to serve on the Advisory Group. It is not necessary to include letters of commitment from potential Advisory Group members in this application, but a list of potential candidates must be included in the project design.

Products

The grantee will submit progress reports to OJJDP at 6, 12, and 18 months into the project. These reports will describe the status of selection of sites, negotiation with tribes, development of the study design and instruments, the site-level analysis of cultural and historical factors that may influence delinquency and resiliency, project staffing, and any other issues that are relevant to the completion of the study.

By the end of the first 12 months of the feasibility study, the comprehensive literature review of risk and protective factors for tribal youth must be complete, with a summary version of this review prepared for publication as an OJJDP Bulletin. By the end of the 20th month of the feasibility study, the final planning report must be complete and ready for review by OJJDP and the Advisory Group. In this report, the grantee must clearly state theoretical and methodological commitments that will guide the inquiry. The study design and research instruments must be fully developed and pilot testing must be complete. The basic analysis strategy must be described. The analysis of cultural and historical factors that may influence delinquency and resiliency in each site must be complete, including an examination of the current juvenile justice system in place at each site. The remaining 4 months of this project period will be spent finalizing and fine tuning the plans laid out in the final report with the three sites, the Advisory Group, and OJJDP.

Eligibility Requirements

OJJDP invites applications from public and private agencies, organizations, institutions, tribal communities, and individuals, or any combination of the above. Private, for-profit organizations must agree to waive any profit or fee. In the case of joint applications, one applicant must be clearly indicated as primary (for correspondence and award purposes) and the other(s) listed as coapplicant(s). OJJDP encourages collaborative relationships among researchers, practitioners, and tribal entities.

Selection Criteria

Applications will be evaluated and rated by a peer review panel according to the criteria outlined below. In addition, the extent to which the project narrative makes clear and logical connections among the components listed below will be considered in assessing a project's merits.

Problems To Be Addressed (25 points)

Applicants must demonstrate a thorough understanding of the unique challenges that face tribal youth, families, and communities. This discussion should reflect an understanding of the risk and protective factors faced by this population. A clear case must be made for the value of conducting longitudinal research to enhance and extend the current understanding of individual, family, community, peer, and school factors that influence delinquency and resiliency in tribal youth. The case also must be made for including a focus on the cultural and historical context of these youth in the longitudinal research. The discussion must reflect a thorough understanding of issues related to conducting research with Indian tribes, including specific challenges and opportunities. This section must include a discussion of the current status and critical areas for further development of effective and culturally appropriate research approaches and instruments for use with tribal youth.

Goals and Objectives (10 points)

Applications must include clearly stated goals and objectives. The goals and objectives stated in this announcement should serve as a starting point, but applicants must expand on these to reflect planning activities outlined in the project design. Objectives must include clearly defined, realistic, and measurable tasks and outcomes that will enable the applicant to achieve the goals of the project.

Project Design (30 points)

Applicants must present a well-detailed proposed feasibility study that calls for and ensures broad involvement of tribal stakeholders at each of the sites. Applicants should address the requirements and tasks listed in the “Project Strategy” section of this announcement and any other significant issues related to conducting this longitudinal study. This section must include plans for developing a logical sampling design for selecting sites, a comprehensive literature review, an Advisory Group (with a list of potential candidates), and the study design and measures. It must also include plans for negotiating and coordinating with tribes; eliciting grounded theory reflecting values, traditions, and beliefs regarding delinquency in the three tribal sites; and conducting a tribal- or community-level analysis that establishes the cultural and historical backdrop for youth and includes examination of the current juvenile justice system in each of the study sites.

The application must include a timeline that indicates when specific tasks will be started and completed and when products will be submitted. The timeline must be referenced as appropriate in the narrative but should be placed in appendix A of the application. The timeline should allow for tribal review of procedures to protect the rights and privacy of research participants (see below).

Management and Organizational Capability (25 points)

Applicants must demonstrate that project staff and consultants possess experience, knowledge, and ability related to conducting longitudinal research, studying juvenile justice issues, and working collaboratively with tribal leaders, juvenile justice system professionals, and community members. Applicants are strongly encouraged to include qualified tribal researchers and juvenile justice professionals on their staff. This section must include the names of responsible individuals and key consultants, their time commitments, and their major tasks. In particular, applicants must ensure that the tasks delineated in the project timeline (see “Project Design” above) are adequately staffed. Résumés for key staff members and consultants should be included in appendix B.

Applicants must demonstrate organizational capacity and the existence of a management structure that will support the longitudinal research with tribal populations and achievement of project goals and objectives in an efficient and cost-effective manner. Applicants should include a description of any similar projects undertaken previously. Letters of commitment from consultants or proposed contractors must be included in appendix C of the application. Applicants are also encouraged to include letters of reference from tribal leaders in appendix C.

Budget (10 points)

Applicants must provide a proposed budget that is complete, detailed, reasonable, allowable, and cost-effective in relation to the activities to be undertaken. All budgeted costs should be directly related to the achievement of project goals and objectives. A brief budget narrative should be included in this section. It will be necessary to estimate some travel costs because the sites are not yet selected. Estimates should be consistent with the proposed framework for developing the site sampling strategy. Applicants should also budget for at least one meeting in Washington, DC, between senior project staff and OJJDP staff during each of the first 2 years.

Format

Applications must include a program narrative of no more than 40 double-spaced pages. The page limit does not include the budget narrative, appendixes, application forms, or assurances. Applicants shall identify the author(s) responsible for each narrative section. Appendix A shall contain the project's timeline with dates for initiation and completion of critical project tasks. Appendix B shall contain the résumés for the principal investigator and key staff members and consultants. Appendix C shall include all necessary letters of cooperation or support.

The narrative portion of the application must be submitted on 8½- by 11-inch paper using a standard 12-point font. The application must be double spaced and printed on one side of the paper only, with the narrative preceded by an abstract of no more than 300 words. These requirements are necessary to maintain a fair and uniform set of standards among all applicants. If the application fails to conform to these standards, it will not be eligible for consideration.

Award Period

The feasibility study project will be funded for an initial 2-year budget and project period. Funding for conducting the longitudinal study beyond the initial budget period depends on the outcomes of the feasibility study, grantee performance, availability of funds, and other criteria established at the time of award.

Award Amount

Up to $650,000 is available for the initial 2-year budget and project period.

Confidentiality and Human Subjects

U. S. Department of Justice regulations require that projects involving research or statistics must maintain the confidentiality of information identifiable to a private person and that human research subjects must be protected from unreasonable risks and properly informed of the potential harms and benefits from their participation in research. Applicants must comply with the confidentiality requirements of 42 U.S.C. section 3789g and 28 CFR Part 22 by submitting a Privacy Certificate in accordance with 28 CFR section 22.23 as part of the application package. (See appendix B, “Privacy Certificate Guidelines and Statement,” in the OJJDP Application Kit.)

If the project involves research using human subjects, the applicant must comply with Department of Justice regulations at 28 CFR Part 46. This part generally requires that an Institutional Review Board (IRB) review and approve such projects unless the project is determined to be exempt from the regulatory requirements. IRB review is not required prior to submission of the application. However, if an award is made and the project involves research using human subjects, OJJDP will place a special condition on the award requiring that the project be approved by an appropriate IRB before Federal funds can be expended on activities involving human research subjects. Applicants should include plans for IRB review, where applicable, in the project timeline submitted with the proposal.

As sovereign nations, Indian tribes may have specific requirements for confidentiality and approval of research and evaluation projects. Tribal policies and procedures for reviewing and approving research apply to this program and must be met before Federal funds can be expended on activities involving human research subjects. Tribal review and approval should be considered in the project timeline submitted with the proposal.

Catalog of Federal Domestic Assistance (CFDA) Number

The CFDA number, required on Standard Form 424, “Application for Federal Assistance,” is 16.731. Standard Form 424 is included in the OJJDP Application Kit, which can be obtained by contacting the Juvenile Justice Clearinghouse at 800-638-8736 or sending an e-mail request to puborder@ncjrs.org. The Application Kit is also available online at www.ojjdp.ncjrs.org/grants/2000_app_kit/index.html.

Coordination of Federal Efforts

To encourage better coordination among Federal agencies in addressing State and local needs, the U.S. Department of Justice is requesting applicants to provide information on the following: (1) Active Federal grant awards supporting this project or related efforts, including other awards from the Department of Justice; (2) any pending applications for Federal funds for this or related efforts; and (3) plans for coordinating any funds described in items (1) and (2) with the funding requested in this application. For each Federal award, applicants must include the program or project title, the Federal granting agency, the amount of the award, and a brief description of its purpose.

The term “related efforts” is defined for these purposes as one of the following:

• Efforts for the same purpose (i.e., the proposed project would supplement, expand, complement, or continue activities funded with other Federal grants).

• Another phase or component of the same program or project (e.g., to implement a planning effort funded by other Federal monies or to provide a substance abuse treatment or educational component within an existing juvenile justice project).

• Services of some kind (e.g., technical assistance, research, or evaluation) to the program or project described in the application.

Delivery Instructions

All application packages should be mailed or delivered to the Office of Juvenile Justice and Delinquency Prevention, c/o Juvenile Justice Resource Center, 2277 Research Boulevard, Mail Stop 2K, Rockville, MD 20850; 301-519-5535.

Note: In the lower left-hand corner of the envelope, the applicant must clearly write “Longitudinal Study of Tribal Youth Risk and Resiliency.”

Due Date

Applicants are responsible for ensuring that the original and five copies of the application package are received by 5 p.m. ET on June 11, 2001.

Contact

For further information, contact Phelan Wyrick, Program Manager, Research and Program Development Division, Office of Juvenile Justice and Delinquency Prevention, at 202-353-9254. Alternatively, e-mail inquiries can be sent to wyrickp@ojp.usdoj.gov.

Resources

Baldwin, J. 1999. Conducting drug abuse prevention research in partnership with Native American communities: Meeting challenges through collaborative approaches. Drugs and Society 14:77-92.

Beuvais, F. 1999. Obtaining consent and other ethical issues in the conduct of research in American Indian Communities. Drugs and Society 14:167-184.

Bureau of Justice Statistics. 1999. American Indians and Crime. Washington, DC: U.S. Department of Justice, Office of Justice Programs, Bureau of Justice Statistics.

Coalition for Juvenile Justice 2000. Enlarging the Healing Circle: Ensuring Justice for American Indian Children. Report. Washington, DC: Coalition for Juvenile Justice.

Hawkins, J.D., Catalano, R.F., and Miller, J.Y. 1992. Risk and protective factors for alcohol and other drug problems in adolescence and early adulthood: Implications for substance abuse prevention. Psychological Bulletin 112 (1):64-105.

Hawkins, J.D., Herrenkohl, T.I., Farrington, D.P., Brewer, D., Catalano, R.F., Harachi, T.W., and Cothern, L. 2000. Predictors of Youth Violence. Bulletin. Washington, DC: U.S. Department of Justice, Office of Justice Programs, Office of Juvenile Justice and Delinquency Prevention.

Lipsey, M.W. and Derzon, J.H. 1998. Predictors of violent or serious delinquency in adolescence and early adulthood: A synthesis of longitudinal research. In Serious & Violent Juvenile Offenders: Risk Factors and Successful Interventions, edited by R. Loeber and D.P. Farrington. Thousand Oaks, CA: Sage Publications.

Loeber, R. and Farrington, D.P. 1998. Serious & Violent Juvenile Offenders: Risk Factors and Successful Interventions. Thousand Oaks, CA: Sage Publications.

Mitchell, C.M., and Beats, J. 1997. The structure of problem and positive behavior among American Indian adolescents: Gender and community differences. American Journal of Community Psychology 25(3) 257-288.

National Alliance of Gang Investigators Associations. 2000. National Gang Threat Assessment. Report. Yaphank, NY: National Alliance of Gang Investigators Associations.

Stouthamer-Loeber, M., van Kammen, W., and Loeber, R. 1992. The nuts and bolts of implementing large-scale longitudinal studies. Violence and Victims 7(1) 63-78.

Tatem Kelley, B., Loeber, R., Keenan, K., and DeLamatre, M. 1997. Developmental Pathways in Boys' Disruptive and Delinquent Behavior. Bulletin. Washington, DC: U.S. Department of Justice, Office of Justice Programs, Office of Juvenile Justice and Delinquency Prevention.

Thornberry, T.P., Huizinga, D., and Loeber, R. 1995. The prevention of serious delinquency and violence: Implications from the Program of Research on the Causes and Correlates of Delinquency. In A Sourcebook: Serious, Violent, & Chronic Juvenile Offenders, edited by J.C. Howell, B. Krisberg, J.D. Hawkins, and J.J. Wilson. Thousand Oaks, CA: Sage Publications, pp. 213-237.

Tjaden, P., and Thoennes, N. 2000. Extent, Nature, and Consequences of Intimate Partner Violence: Findings From the National Violence Against Women Survey. Research Report. Washington, DC: U.S. Department of Justice, Office of Justice Programs, National Institute of Justice.

Tonry, M., Ohlin, L.E., and Farrington, D.P. 1991. Human Development and Criminal Behavior: New Ways of Advancing Knowledge. Washington, DC: U.S. Department of Justice, Office of Justice Programs, National Institute of Justice.

Trimble, J. 1977. The sojourner in the American Indian community: Methodological concerns and issues. Journal of Social Issues 33 159-174.

U.S. Census Bureau. 1993. We the First Americans. Report. Washington, DC: U.S. Department of Commerce, Economics and Statistics Administration.

U.S. Census Bureau. 2000. Native resident population estimates of the United States by sex, race, and Hispanic origin: April 1, 1990 to July 1, 1999. Washington, DC: Bureau of the Census, Population Estimates Program, Population Division. Retrieved October 24, 2000, from the Web: www.census.gov/population/estimates/nation/nativity/nbtab003.txt.

Dated: March 23, 2001.
John J. Wilson,
Acting Administrator, Office of Juvenile Justice and Delinquency Prevention.

[FR Doc. 01-7646 Filed 3-27-01; 8:45 am]

BILLING CODE 4410-18-P